DEPARTMENT OF COMMERCE

International Trade Administration

[A-427-801, A-428-801, A-475-801, A-588-804, A-485-801, A-559-801, A-401-801, A-412-801]

Antifriction Bearings (Other Than Tapered Roller Bearings) and Parts Thereof From France, Germany, Italy, Japan, Romania, Singapore, Sweden, and the United Kingdom; Final Results of Antidumping Duty Administrative Reviews and Revocation of Orders in Part

AGENCY: Import Administration, International Trade Administration, Department of Commerce

ACTION: Notice of final results of antidumping duty administrative reviews and revocation of orders in part

SUMMARY: On April 6, 2000, the Department of Commerce published the preliminary results of the administrative reviews of the antidumping duty orders on antifriction bearings (other than tapered roller bearings) and parts thereof from France, Germany, Italy, Japan, Romania, Singapore, Sweden, and the United Kingdom. The merchandise covered by these orders are ball bearings and parts thereof, cylindrical roller bearings and parts thereof, and spherical plain bearings and parts thereof. The reviews cover 36 manufacturers/exporters. The period of review is May 1, 1998, through April 30, 1999.

Based on our analysis of the comments received, we have made changes, including corrections of certain programming and other clerical errors, in the margin calculations. Therefore, the final results differ from the preliminary results. The final weighted-average dumping margins for the reviewed firms are listed below in the section entitled “Final Results of the Reviews.”

EFFECTIVE DATE: August 11, 2000.

FOR FURTHER INFORMATION: Please contact the appropriate case analysts for the various respondent firms as listed below, at Import Administration, International Trade Administration, U.S. Department of Commerce, Washington, D.C. 20230; telephone: (202) 482-4733.

France: Lyn Johnson (SKF), Georgia Creech (SNFA), Edythe Artman (SNR), Robin Gray, or Richard Rimlinger.

Germany: Mark Ross (Torrington Nadellager), Davina Hashmi (SKF, MPT), Hermes Pinilla (FAG), Suzanne Brower (INA), Edythe Artman (SNR), Thomas Schauer (NTN, Paul Müller), Robin Gray, or Richard Rimlinger.

Italy: Minoo Hatten (SKF), Suzanne Brower (FAG), Georgia Creech (Somecat), or Robin Gray.

Japan: J. David Dirstine (Nachi-Fujikoshi, Tsubaki, Koyo), Thomas Schauer (NTN, NSK, IJK), Lyn Johnson (NPBS, Nakai Bearing), Sergio Gonzalez (Asahi Seiko, IKS, Takeshita), Minoo Hatten (Nankai Seiko), Mark Ross (Osaka Pump), George Callen (KYK), Robin Gray, or Richard Rimlinger.

Romania: Suzanne Brower (TIE), J. David Dirstine (Koyo), or Robin Gray.

Singapore: George Callen (NMB/Pelmec) or Robin Gray.

Sweden: Georgia Creech (SKF) or Robin Gray.

United Kingdom: Hermes Pinilla (FAG, Barden), Georgia Creech (SNFA), Edythe Artman (SNR), Robin Gray, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (1999).

Background

On April 6, 2000, the Department of Commerce (the Department) published the preliminary results of the administrative reviews of the antidumping duty orders on antifriction bearings (other than tapered roller bearings) and parts thereof from France, Germany, Italy, Japan, Romania, Singapore, Sweden, and the United Kingdom (65 FR 18033). The reviews cover 36 manufacturers/exporters. The period of review (POR) is May 1, 1998, through April 30, 1999. We invited interested parties to comment on our preliminary results. At the request of certain parties, we held hearings for Germany-specific issues on May 17, 2000, and for Japan-specific issues on May 22, 2000. The Department has conducted these administrative reviews in accordance with section 751 of the Act.

In our preliminary results, we rescinded the administrative review of NTN Germany on the basis that we had received timely withdrawal of the request for review. However, this conclusion was erroneous, since the petitioner, which has requested the review, had not withdrawn its request. Therefore, we reinstated NTN Germany in the pertinent review by letter to the company, dated May 2, 2000, and have included it in our final results of review.

Scope of Reviews

The products covered by these orders, antifriction bearings (other than tapered roller bearings), mounted or unmounted, and parts thereof, constitute the following classes or kinds of merchandise:

1. Ball Bearings and Parts Thereof: These products include all antifriction bearings that employ balls as the rolling element. Imports of these products are classified under the following categories: antifriction balls, ball bearings (BBs) with integral shafts, BBs (including radial BBs) and parts thereof, and housed or mounted BB units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Cylindrical Roller Bearings, Mounted or Unmounted, and Parts Thereof: These products include all antifriction bearings that employ cylindrical rollers as the rolling element. Imports of these products are classified under the following categories: antifriction rollers, all cylindrical roller bearings (including split cylindrical roller bearings) (CRBs) and parts thereof, and housed or mounted CRB units and parts thereof.

Imports of these products are classified under the following HTSUS subheadings: 3926.90.45, 4016.93.00, 4016.93.10, 4016.93.50, 6909.19.5010, 8431.20.00, 8431.39.0010, 8482.40.00, 8482.50.00, 8482.80.00, 8482.91.00, 8482.99.25, 8482.99.35, 8482.99.6530, 8482.99.6560, 8482.99.70, 8483.20.40, 8483.20.80, 8483.50.8040, 8483.90.20, 8483.90.30, 8483.90.70, 8708.50.50, 8708.60.50, 8708.93.5000, 8708.99.4000, 8708.99.4960, 8708.99.50, 8708.99.8080, 8803.10.00, 8803.20.00, 8803.30.00, 8803.90.30, and 8803.90.90.

3. Spherical Plain Bearings, Mounted and Unmounted, and Parts Thereof: These products include all spherical plain bearings (SPBs) that employ a spherically shaped sliding element and include spherical plain rod ends.

Imports of these products are classified under the following HTSUS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

The HTSUS item numbers are provided for convenience and customs purposes. They are not determinative of the products subject to the orders. The written descriptions remain dispositive.

Size or precision grade of a bearing does not influence whether the bearing is covered by one of the orders. These orders cover all the subject bearings and parts thereof (inner race, outer race, cage, rollers, balls, seals, shields, etc.) outlined above with certain limitations. With regard to finished parts, all such parts are included in the scope of these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scopes of these orders.

For a listing of scope determinations which pertain to the orders, see the “Scope Determinations Memorandum” (Scope Memo) from the Antifriction Bearings Team to Laurie Parkhill, dated August 4, 2000, and hereby adopted by this notice. The Scope Memo is on file in the Central Records Unit (CRU), Main Commerce Building, Room B-099, and is accessible on the Web at www.ia.ita.doc.gov. The paper copy and electronic version of the Scope Memo are identical in content.

Analysis of Comments Received

All issues raised in the case and rebuttal briefs by parties to these concurrent administrative reviews of the orders on antifriction bearings are addressed in the “Issues and Decision Memorandum” (Decision Memo) from Richard W. Moreland, Deputy Assistant Secretary, to Troy H. Cribb, Acting Assistant Secretary, dated August 4, 2000, which is hereby adopted by this notice. A list of the issues which parties have raised and to which we have responded, all of which are in the Decision Memo, is attached to this notice as an Appendix. This Decision Memo, which is a public document, is on file in the CRU, Main Commerce Building, Room B-099, and is accessible on the Web at www.ia.ita.doc.gov. The paper copy and electronic version of the Decision Memo are identical in content.

Sales Below Cost in the Home Market

The Department disregarded home-market sales that failed the cost test for the following firms and classes or kinds of merchandise for these final results of reviews:

Country | Company | Subject merchandise
France | SKF | BBs
| SNR | BBs
Germany | SKF | BBs, CRBs, SPBs
| FAG | BBs, CRBs
| INA | BBs, CRBs, SPBs
| Torrington Nadellager | CRBs
Italy | FAG | BBs
| SKF | BBs
Japan | Asahi Seiko | BBs
| IKS | BBs
| Koyo | BBs, CRBs
| Nachi | BBs, CRBs
| NSK | BBs, CRBs
| NTN | BBs, CRBs, SPBs
| NPBS | BBs
Sweden | SKF | BBs
United Kingdom | Barden | BBs
| NSK-RHP | BBs, CRBs

Partial Revocation of Orders

In our preliminary results we stated our intent to revoke the order covering BBs from France as it pertains to the sales of these bearings by SNFA France. Since our preliminary findings regarding this request for revocation has been affirmed, based on our final results of review, we are revoking this order in part. The effective date of this revocation in part is May 1, 1999.

In addition, also in our preliminary results, we stated our intent not to revoke the order covering BBs from Italy as it pertained to sales of these bearings by Somecat. However, due to a recalculation of Somecat's margin, which resulted in a de minimis finding of dumping for the final results of review, we are revoking this order, in part, with respect to Somecat. The revocation in part applies to subject merchandise entered, or withdrawn from warehouse, for consumption on or after May 1, 1999.

In our preliminary results, we also stated our intent to revoke the antidumping duty order covering BBs from Romania as it pertains to TIE's sales of merchandise from those suppliers which supplied TIE during the time period that formed the basis for the revocation. The Department is not addressing the issue of revocation as it pertains to TIE Romania because the issue has been rendered moot by the United States International Trade Commission (ITC) determination in a sunset review pursuant to 751(c) of the Act that revocation of the order on AFBs from Romania would not be likely to lead to continuation or recurrence of material injury to an industry in the United States within a reasonably foreseeable time. See Certain Bearings from China, France, Germany, Hungary, Italy, Japan, Romania, Singapore, Sweden, and the United Kingdom, Inv. Nos. AA-1921-143, et al., 65 FR 39925 (June 28, 2000).

The discussion of issues and comments pertaining to these revocations is contained in the “Revocation” section of the Decision Memo, which is accessible on the Web at www.ia.ita.doc.gov and is on file in the CRU, Room B-099.

Sunset Revocations

On June 28, 2000, the International Trade Commission (ITC), pursuant to section 751(c) of the Act, determined that revocation of the antidumping duty orders on certain bearings from Japan, Romania, Sweden, France, Germany, Italy, and the United Kingdom would not be likely to lead to continuation or recurrence of material injury to an industry in the United States within a reasonably foreseeable time (65 FR 39925). Therefore, pursuant to 19 CFR 351.222(i)(1), the Department revoked the following orders on July 11, 2000: BBs from Romania, BBs and CRBs from Sweden, CRBs from France, CRBs and SPBs from Germany, CRBs from Italy, CRBs and SPBs from Japan, CRBs from the United Kingdom (65 FR 42667). The effective date of these sunset revocations is January 1, 2000.

Changes Since the Preliminary Results

Based on our analysis of comments received, we have made revisions that have changed our results for certain firms. We have corrected programming and clerical errors in our preliminary results, where applicable. Any alleged programming or clerical errors about which we or the parties do not agree are discussed in the relevant sections of the Decision Memo, which is accessible on the Web at www.ia.ita.doc.gov and is on file in the CRU, Room B-099.

Final Results of Reviews

We determine that the following percentage weighted-average margins exist for the period May 1, 1998, through April 30, 1999:

Company | Ball | Cylindrical | Spherical plain
France:
SKF | 11.43 | (1) | 14.83
SNFA | 0.00 | 0.06 | (2)
SNR | 0.39 | 0.22 | (2)
Germany:
FAG | 7.03 | 8.01 | (2)
INA | 19.54 | 5.18 | 0.84
MPT | (2) | 0.00 | (2)
NTN | 70.41 | (2) | (2)
Paul Müller | 0.00 | (2) | (2)
SKF | 6.39 | 7.79 | 5.02
SNR | 5.92 | 2.46 | (2)
Torrington Nadellager | (2) | 61.60 | (1)
Italy:
FAG | 2.04 | 1.13 |
SKF | 4.11 | (2) |
Somecat | 0.15 | (1) |
Japan:
Asahi Seiko | 0.67 | (2) | (2)
IJK | 12.80 | (2) | (2)
IKS | 9.99 | (2) | (2)
Koyo | 5.39 | 0.92 | 0.00
KYK | 6.79 | (2) | (2)
Nachi | 4.62 | 1.31 | (2)
Nakai Bearing | 4.55 | (2) | (2)
Nankai Seiko | 0.33 | (2) | (2)
NPBS | 2.53 | (2) | (2)
NSK Ltd. | 2.81 | 1.79 | (2)
NTN | 6.14 | 3.49 | 2.78
Osaka Pump | 19.58 | (2) | (2)
Takeshita | 19.58 | (2) | (2)
Tsubaki | 12.05 | (2) | (2)
Romania:
Koyo | 0.00 |  |
TIE | 0.04 |  |
Singapore:
NMB/Pelmec | 1.26 |  |
Sweden:
SKF | 2.82 | (1) |
United Kingdom:
Barden Corporation | 1.28 | (1) |
FAG (U.K.) | (1) | (1) |
SNFA | 0.00 | (2) |
SNR | 0.32 | (2) |
¹ No shipments or sales subject to this review. The deposit rate remains unchanged, as appropriate.
² No request for review under section 751(a) of the Act.

Assessment Rates

The Department shall determine, and the Customs Service shall assess, antidumping duties on all appropriate entries. In accordance with 19 CFR 351.212(b)(1), we have calculated, whenever possible, an exporter/importer-or customer-specific assessment rate or value for subject merchandise.

a. Export Price

With respect to export-price sales for these final results, we divided the total dumping margins (calculated as the difference between normal value and export price) for each importer/customer by the total number of units sold to that importer/customer. We will direct the Customs Service to assess the resulting per-unit dollar amount against each unit of merchandise on each of that importer's/customer's entries under the relevant order during the review period.

b. Constructed Export Price

For constructed export-price (CEP) sales (sampled and non-sampled), we divided the total dumping margins for the reviewed sales by the total entered value of those reviewed sales for each importer. When an affiliated party acts as an importer for export-price sales we have included the applicable export-price sales in the assessment-rate calculation. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews) we divided the total dumping margins for each company by the total net value for that company's sales of merchandise during the review period subject to each order.

In order to derive a single deposit rate for each order for each respondent, we weight-averaged the export-price and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. We then divided the combined total dumping margins for both export-price and CEP sales by the combined total value for both export-price and CEP sales to obtain the deposit rate.

We will direct the Customs Service to collect the resulting percentage deposit rate against the entered customs value of each of the exporter's entries of subject merchandise entered, or withdrawn from warehouse, for consumption on or after the date of publication of this notice. If an order has been revoked in part or in full, cash deposits will not be required on entries made after the effective date of the revocation, identified in the Revocation sections above.

Entries of parts incorporated into finished bearings before sales to an unaffiliated customer in the United States will receive the respondent's deposit rate applicable to the order.

Furthermore, the following deposit requirements will be effective upon publication of this notice of final results of administrative reviews for all shipments of antifriction bearings entered, or withdrawn from warehouse, for consumption on or after the date of publication, as provided by section 751(a)(1) of the Act unless the order has been revoked (see Revocation sections above): (1) The cash-deposit rates for the reviewed companies will be the rates shown above except that, for firms whose weighted-average margins are less than 0.5 percent and therefore de minimis, the Department shall not require a deposit of estimated antidumping duties; (2) for previously reviewed or investigated companies not listed above, the cash-deposit rate will continue to be the company-specific rate published for the most recent period; (3) if the exporter is not a firm covered in this review, a prior review, or the original less-than-fair-value (LTFV) investigation, but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al: Final Results of Antidumping Duty Administrative Reviews and Revocation in Part of an Antidumping Duty Order, 58 FR 39729 (July 26, 1993), and, for BBs from Italy, see Antifriction Bearings (Other Than Tapered Roller Bearings) and Parts Thereof From France, et al: Final Results of Antidumping Duty Administrative Reviews, Partial Termination of Administrative Reviews, and Revocation in Part of Antidumping Duty Orders, 61 FR 66472 (December 17, 1996)). These rates are the “All Others” rates from the relevant LTFV investigation.

These deposit requirements shall remain in effect until publication of the final results of the next administrative reviews.

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as the only reminder to parties subject to administrative protective orders (APO) of their responsibility concerning the return or destruction of proprietary information disclosed under APO in accordance with 19 CFR 351.305(a)(3) or conversion to judicial protective order is hereby requested. Failure to comply with the regulations and terms of an APO is a violation which is subject to sanction.

We are issuing and publishing this determination in accordance with sections 751(a)(1) and 777(i)(1) of the Act.

Dated: August 4, 2000.
Troy H. Cribb,
Acting Assistant Secretary for Import Administration.

Appendix

Comments and Responses

1. Facts Available

2. Revocation

3. Export Price/CEP

A. CEP Offset

B. CEP Profit

C. Other Expenses

4. Discounts and Rebates

5. Price Adjustments

A. Indirect Selling Expenses

B. Inventory Carrying Costs

C. Credit Expenses

D. Commissions

E. Advertising Expenses

F. Technical Service Expenses

G. Bank Charges

H. Repacking Expenses

I. Other Direct Selling Expenses

6. Level of Trade

7. Samples and Sales Outside the Ordinary Course of Trade

8. Cost of Production and Constructed Value

A. Profit for Constructed Value

B. Affiliated-Party Inputs

C. General, Selling, and Administrative Expenses

D. When to Use CV

E. Inventory Write-offs

F. Allowance for Doubtful Accounts

G. Marketable Securities

9. Packing and Movement Expenses

10. Romania-Specific Issues

11. Miscellaneous

A. Programming and Clerical Errors

B. Date of Sale

C. Sample Weeks

D. Clerical Errors in a Respondent's Data

[FR Doc. 00-20441 Filed 8-10-00; 8:45 am]

BILLING CODE 3510-DS-P